ENVIRONMENTAL PROTECTION AGENCY

[FRL-8543-2]

Proposed Administrative cost Recovery Settlement under Section 122(h) of the Comprehensive Environmental Response Compensation and Liability Act, as amended, 42 U.S.C. 9622(h), Chemcentral Midwest Corporation, Kansas City, MO

AGENCY: Environmental Protection Agency (EPA).

ACTION: Notice; request for public comment.

SUMMARY: In accordance with Section 122(i) of the Comprehensive Environmental Response Compensation and Liability Act, as amended (CERCLA), 42 U.S.C. 9622(i), notice is hereby given of a proposed administrative settlement with Chemcentral Midwest Corporation, Kansas City, Missouri, for recovery of past response costs concerning the Chemcentral Midwest corporation facility, located at 910 North Prospect, Kansas City, Missouri. The settlement requires Chemcentral Midwest Corporation to pay to the Hazardous Substance Superfund for costs incurred by the United States Environmental Protection Agency, Region 7, in response to the fire at the Chemcentral facility on February 7, 2007. The settlement requires Chemcentral to pay $150,713, to the Hazardous Substance Superfund. The settlement includes a covenant not to sue the settling party pursuant to Section 107(a) of CERCLA, 42 U.S.C. 9607(a). For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 901 N. 5th Street, Kansas City, Kansas.

DATES: Comments must be submitted on or before April 17, 2008.

ADDRESSES: The proposed settlement is available for public inspection at the EPA Region 7 office, 901 N. 5th Street, Kansas City, Kansas, Monday through Friday, between the hours of 7 a.m. through 5 p.m . A copy of the proposed settlement may be obtained from the Regional Hearing Clerk, 901 N. 5th Street, Kansas City, Kansas, (913) 551-7567. Requests should reference the Chemcentral Midwest Corporation, EPA Docket No. CERCLA-07-2008-0008. Comments should be addressed to: Julie M. Van Horn, Senior Assistant Regional Counsel, 901 N. 5th Street, Kansas City, Kansas 66101.

FOR FURTHER INFORMATION CONTACT: Julie M. Van Horn, at telephone: (913) 551-7889; fax number: (913) 551-7925/Attn: Julie M. Van Horn; E-mail address: vanhorn.julie@epa.gov.

Dated: March 5, 2008.
Cecilia Tapia,
Director, Superfund Division, Region 7.

[FR Doc. 08-1040 Filed 3-17-08; 8:45 am]

BILLING CODE 6560-50-M